DEPARTMENT OF VETERANS AFFAIRS

Veterans Rural Health Advisory Committee, Notice of Meeting

The Department of Veterans Affairs (VA) gives notice under the Federal Advisory Committee Act that the Veterans Rural Health Advisory Committee will hold its virtual meeting through TEAMS Channel on Monday, September 16, 2024, this is an afternoon event.

The meeting will convene at 1:00 p.m., Eastern Daylight Time (EDT) and adjourn at 5:00 p.m. (EDT). The meeting sessions are open to the public. Additionally, a meeting link is available for individuals who cannot attend in person and would like to join online. The meeting can be accessed through the Microsoft Teams link (https://teams.microsoft.com/l/meetup-join/19%3aMrht0AeJKdFsEo-EIeXl7AFxengr2_Qmk_VQ-q2pUQI1%40thread.tacv2/1724343214735?context=%7b%22Tid%22%3a%22e95f1b23-abaf-45ee-821d-b7ab251ab3bf%22%2c%22Oid%22%3a%2261c0682f-c912-48e3-ac92-0284e7a48c1a%22%7d), or by telephone, +1 872-701-0185, Conference ID 49841998#.

The purpose of the Committee is to advise the Secretary of VA on rural health care issues affecting Veterans. The Committee examines programs and policies that impact the delivery of VA rural health care to Veterans and discusses ways to improve and enhance VA access to rural health care services for Veterans.

The agenda will include updates from Department leadership; the Executive Director, VA Office of Rural Health; and the Committee Chair; as well as presentations by subject-matter experts on general rural health care access.

Time will be allocated for receiving public comments on September 16, 2024, at 4:30 p.m. EDT. Interested parties should contact Mr. Paul Boucher, by email at VHAORH@va.gov, at (207) 458-7129, or send by mail to 810 Vermont Avenue NW (12RH), ATTN: VRHAC Committee, Washington, DC 20420 no later than close of business on September 6, 2024. Individuals wishing to speak are invited to submit a 1-2-page summary of their comment for inclusion in the official meeting record no later than close of business on September 6, 2024. Any member of the public seeking additional information should contact Mr. Boucher at the email address noted above or 207-458-7129.

Dated: August 26, 2024.
LaTonya L. Small,
Federal Advisory Committee Management Officer.

[FR Doc. 2024-19515 Filed 8-29-24; 8:45 am]

BILLING CODE 8320-01-P